OFFICE OF PERSONNEL MANAGEMENT

[OMB Control No. 3206-0005]

Submission for OMB Review; Comment Request for Revised Information Collection; Questionnaire for Non-Sensitive Positions, Standard Form 85 (SF 85); Questionnaire for Public Trust Positions, Standard Form 85P (SF 85P); Supplemental Questionnaire for Selected Positions, Standard Form 85PS (SF 85PS); Questionnaire for National Security Positions, Standard Form 86 (Sf 86); Continuation Sheet for Questionnaires SF 85, 85P, and 86, Standard Form 86a (Sf 86a); and Certification Statement for SF 86 (SF 86C)

AGENCY: Office of Personnel Management.

ACTION: Notice.

SUMMARY: In accordance with the Paperwork Reduction Act of 1995 (Pub. L. 104-13), this notice announces that the Office of Personnel Management (OPM) submitted to the Office of Management and Budget a request for review and clearance of the revised collection of information, Questionnaires for National Security, Public Trust, and Non-Sensitive Positions (OMB Control No. 3206-0005), which includes the following electronic, on-line collection instruments:

• Questionnaire for Non-Sensitive Positions, Standard Form 85 (SF 85);

• Questionnaire for Public Trust Positions, Standard Form 85P (SF 85P); and

• Questionnaire for National Security Positions, Standard Form 86 (SF 86).

This notice also announces that the Office of Personnel Management (OPM) submitted to the Office of Management and Budget a request to discontinue clearance of the Continuation Sheet for Questionnaires SF 85, 85P, and 86, Standard Form 86A (SF 86A), the Certification Statement for SF 86, Standard Form SF 86C (SF 86C); and the Supplemental Questionnaire for Selected Positions, Standard Form 85PS (SF 85PS), which were formerly included in the collection (OMB Control No. 3206-0005).

These information collections are completed by respondents for, or incumbents of, Government positions or positions for the Government under contract, or by military personnel. The collections are used as the basis for background investigations to establish that such persons are:

• Suitable for employment or retention in the position;

• Suitable for employment or retention in a public trust position;

• Suitable for employment or retention in a national security position; and

• Eligible for access to classified national security information.

We are discontinuing request for clearance of the SF 86A, SF 86C, and SF 85PS, and propose that these collections be eliminated. The SF 86A is currently used as a continuation of the form with which its use is associated and not for any unique purpose exclusive from the associated form. It is proposed that the SF 86A be eliminated as it is not necessary when e-QIP is used. Additionally, GSA has requested that the Standard Forms be available to customers in electronic format only. They will no longer be stocking the paper forms. The SF 86C is currently used in lieu of completing a new SF 86 to allow the individual to indicate that there have been no changes in the data provided on the most recently filed SF 86 or to allow the individual to easily provide new or changed information. The electronic format of the proposed SF 86 eliminates the need for a separate SF 86C. It is proposed that the SF 85PS be eliminated because the questions formerly on the SF 85PS now reside on the SF 85P.

The SF 85, SF 85P, and SF 86 are completed by both employees of the Federal Government and individuals not employed with the Federal Government, to include Federal and military contractors. Federal employees are defined as those individuals who are employed as civilian or military personnel with the Federal Government. Non-Federal employees include members of the general public and all individuals employed as Federal and military contractors or individuals otherwise not directly employed by the Federal Government.

It is estimated that 47,700 non-Federal individuals will complete the SF 85 annually. Each form takes approximately 100 minutes to complete. The estimated annual public burden is 79,500 hours.

It is estimated that 98,700 non-Federal individuals will complete the SF 85P annually. Each form takes approximately 150 minutes to complete. The estimated annual burden is 246,750 hours.

It is estimated that 21,800 non-Federal individuals will complete the SF 86 annually. Each form takes approximately 150 minutes to complete. The estimated annual burden is 54,500 hours.

e-QIP (Electronic Questionnaires for Investigations Processing) is a web-based system application that currently houses electronic versions of the SF 85, SF 85P, and SF 86. This internet data collection tool provides faster processing time and immediate data validation to ensure accuracy of the respondent's personal information. The e-Government initiative mandates that agencies utilize e-QIP for all investigations and reinvestigations.

A variable in assessing burden hours is the nature of the electronic application. The electronic application includes branching questions and instructions which provide for a tailored collection from the respondent based on varying factors in the respondent's personal history. The burden on the respondent is reduced when the respondent's personal history is not relevant to a particular question, since the question branches, or expands for additional details, only for those persons who have pertinent information to provide regarding that line of questioning. As such, the burden on the respondent will vary depending on whether the information collection relates to the respondent's personal history.

Additionally, once entered, a respondent's complete and certified investigative data remains secured in the e-QIP system until the next time the respondent is sponsored by an agency to complete a new investigative form. Upon initiation, the respondent's previously entered data (except ‘yes/no’ questions) will populate a new investigative request and the respondent will be allowed to update their information and certify the data. In this instance, time to complete the form is reduced significantly.

The 60-day Federal Register Notice was published June 23, 2008 (Volume 73, Number 121, pages 35421-35422). The following Federal agencies or agency organizations made comments during the public comment period: Social Security Administration, Joint Security and Suitability Reform Team, Department of Housing and Urban Development, Department of Health and Human Services, U.S. Agency for International Development, Department of Homeland Security, Central Intelligence Agency, Department of Transportation, Office of the Director of National Intelligence, Department of State, Department of State Mental Health Services, Federal Bureau of Investigation, Defense Personnel Security Research Center, Department of Energy, and internal commentators from the U.S. Office of Personnel Management (OPM). The vast majority of comments were from OPM internal commentators and focused on administrative issues related to the formatting of the instructions and questions on the former paper collection. Most comments from other agencies focused on changes to the collection of mental health treatment information relative to treatment resulting from service in a military combat environment.

Comments which most substantially affected the proposed revisions of the SF 85P and SF 86 were considered in light of the intent of Executive Order 13467 to align using consistent standards to the extent possible policies and procedures relating to suitability, contractor employee fitness, eligibility to hold a sensitive position, access to federally controlled facilities and information systems, and eligibility for access to classified information. As a result of reforms to investigative processes, the SF 85, SF 85P, and SF 86 were expanded to collect from the respondent more accurate and relevant information that is of investigative and adjudicative significance earlier in the investigative process, thus increasing the length of the collections. As a result of public comment, significant and substantial changes were made to the SF 85, SF 85P, and SF 86. Such changes to the SF 85 include revision to questions 9, 10, 17, 18, 21, and the addition of new questions 19, 20, and 22. These question numbers reflect renumbering to accommodate the addition of new areas of questioning. Changes to the SF 85P include revisions to questions 9, 10, 15, 17b, 18, 20c, 22, 23, 24, 25, 26 and the addition of questions 19, 20a, 20b, 21, 27, 28, and 29. Changes to the SF 86 include revisions to questions 19, 20a, 20b, 20c, 21, 22, 23, 24, and 29. Due to the extensive nature of the comments, they have been consolidated in a matrix and are available upon request.

For copies of this proposal, contact Mary-Kay Brewer on 703-305-1002, Fax 703-603-0576, or e-mail at marykay.brewer@opm.gov. Please be sure to include a mailing address with your request.

DATES: Comments on this proposal should be received within 30 calendar days from the date of this publication.

ADDRESSES: Send or deliver comments to: Kathy Dillaman, Associate Director, Federal Investigative Services Division, U.S. Office of Personnel Management, 1900 E Street, NW., Room 5416, Washington, DC 20415, SFRevisionComments@opm.gov; and John W. Barkhamer, Desk Officer, Office of Information and Regulatory Affairs, Office of Management and Budget, New Executive Office Building, 725 17th Street, NW., Room 10235, Washington, DC 20503.

For Information Regarding Administrative Coordination Contact: Mary-Kay Brewer, Program Analyst, Operational Policy Group, Federal Investigative Services Division, U.S. Office of Personnel Management, 703-305-1002.

Michael W. Hager,
Acting Director.

[FR Doc. E8-31144 Filed 12-30-08; 8:45 am]

BILLING CODE 6325-53-P